ENVIRONMENTAL PROTECTION AGENCY

[OPPT-2005-0011; FRL-7729-8]

Tribal Educational Outreach on Lead Poisoning and Baseline Assessment of Tribal Children's Existing and Potential Exposure and Risks Associated With Lead; Notice of Availability and Extension

AGENCY: Environmental Protection Agency (EPA).

ACTION: Notice.

SUMMARY: EPA is announcing the availability of additional information and an extension of the application deadline for a Notice of Funding Availability for Tribal Educational Outreach on Lead Poisoning and Baseline Assessment of Tribal Children's Existing and Potential Exposure and Risks Associated With Lead, that was published in the Federal Register on Thursday, June 30, 2005. You may access the full text of the updated grant announcement at http://www.epa.gov/lead, under the “Lead In The News” July 2005 section and also at http://www.grants.gov.

DATES: The deadline for submitting the grant proposals has been extended to August 30, 2005.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address:TSCA-Hotline@epa.gov.

For technical information contact: Darlene Watford, Program Assessment and Outreach Branch, National Program Chemicals Division (7404T), Office of Pollution Prevention and Toxics, Environmental Protection Agency, 1200 Pennsylvania Ave., NW., Washington, DC 20460-0001; telephone number: (202) 566-0516; e-mail address:watford.darlene@epa.gov.

SUPPLEMENTARY INFORMATION:

I. General Information

A. Does this Action Apply to Me?

Refer to the original notice published on Thursday, June 30, 2005 (70 FR 37831) (FRL-7706-6), or the updated grants announcement on http://www.epa.gov/lead in the “Lead In The News” July 2005 section and at http://www.grants.gov.

B. How Can I Get Copies of this Document and Other Related Information?

1. Docket. EPA has established an official public docket for the original notice under docket identification (ID) number OPPT-2005-0011. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744, and the telephone number for the OPPT Docket, which is located in the EPA Docket Center, is (202) 566-0280.

2. Electronic access. You may access this Federal Register document electronically through the EPA Internet under the “Federal Register” listings at http://www.epa.gov/fedrgstr/.

An electronic version of the public docket is available through EPA's electronic public docket and comment system at http://www.epa.gov/edocket/. Once in the system, select “search,” then key in the appropriate docket ID number.

You may access copies of the updated grants announcement by visiting http://www.epa.gov/lead, and then going to the “Lead In The News” July 2005 section and also at http://www.grants.gov.

II. Additional Information Provided

EPA has updated the grant announcement entitled Tribal Educational Outreach on Lead Poisoning and Baseline Assessment of Tribal Children's Existing and Potential Exposure and Risks Associated With Lead, for which a Notice of Funding Availability published in the Federal Register on Thursday, June 30, 2005 (70 FR 37831). The update involves the addition of discussions on the Government Performance Results Act (GPRA) as it relates to the grant program. It does not reflect a change in the original overall grant program description. Since the evaluation criteria in the grant announcement now includes GPRA related factors, applicants should follow the updated grants announcement. As a result of this update to the grant announcement, the deadline for submitting proposals has been extended to August 30, 2005. Instructions for submitting your grant proposals are provided in the grant announcement.

List of Subjects

Environmental protection, Lead, Lead-based paint, Grants, Indians, Maternal and child health, Native Americans, Tribal.

Dated: July 27, 2005.
Margaret Schneider,
Acting Assistant Administrator, Office of Prevention, Pesticides and Toxic Substances.

[FR Doc. 05-15147 Filed 7-29-05; 8:45 am]

BILLING CODE 6560-50-S